DEPARTMENT OF JUSTICE

Notice of Lodging of Consent Decree Under the Clean Water Act

In accordance with Departmental Policy, 28 U.S.C. 50.7, notice is hereby given that on November 2, 2005, a proposed Consent Decree in United States, et al. v. City of Nashua, New Hampshire, Civil Action No. 1:05-cv-00376-PB, was lodged with the United States District Court for the District of New Hampshire.

In this action the United States, on behalf of the United States Environmental Protection Agency (“EPA”), filed a Complaint against the City of Nashua alleging violations of the Clean Water Act concerning the City's current and former combined sewer outfall (“CSO”) facilities. Under the terms of the Consent Decree, the City undertakes the implementation of a CSO abatement plan with a completion date of August, 2012. The mitigation measures are extensive, requiring completion of the separation of combined sanitary and storm water systems over a large section of the City; the design and construction of wet-weather by-pass systems; the design and construction of new outfalls with screening and detention ponds in multiple locations; the design and construction of disinfection facilities; and substantial system-wide infrastructure improvements.

For a period of thirty (30) days from the date of this publication, the Department of Justice will receive comments relating to the Consent Decree. Comments should be addressed to the Assistant Attorney General, Environment and Natural Resources Division, P.O. Box 7611, U.S. Department of Justice, Washington, DC 20044-7611, and should refer to United States, et al. v. City of Nashua, New Hampshire, DOJ No. 90-5-1-1-08193.

The Consent Decree may be examined at the Office of the United States Attorney, District of New Hampshire, 53 Pleasant Street, Concord, New Hampshire, and at the United States Environmental Protection Agency, Region 1 (New England Region), One Congress Street, Boston, Massachusetts 02114. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.50 (25 cents per page reproduction cost) payable to the U.S. Treasury.

Ronald Gluck,
Assistant Section Chief, Environmental Enforcement Section, Environment and Natural Resources Div.

[FR Doc. 05-22740 Filed 11-15-05; 8:45 am]

BILLING CODE 4410-15-M